DEPARTMENT OF HOUSING AND URBAN DEVELOPMENT

[Docket No. FR-4837-D-35]

Consolidated Delegation of Authority for the Office of Public and Indian Housing

AGENCY: Office of the Secretary, HUD.

ACTION: Delegation of authority.

SUMMARY: This notice is a comprehensive delegation of authority for administration of HUD's Public and Indian Housing programs from the Secretary of Housing and Urban Development to the Assistant Secretary for Public and Indian Housing.

EFFECTIVE DATE: September 9, 2003.

FOR FURTHER INFORMATION CONTACT: Robert Dalzell, Office of Public and Indian Housing, Department of Housing and Urban Development, 451 Seventh Street, SW., Room 4228,Washington, DC 20410-5000; telephone (202) 708-0440. (This is not a toll-free number.) For those needing assistance, this number may be accessed through TTY by calling the toll-free Federal Information Relay Service at 1-800-877-8339.

SUPPLEMENTARY INFORMATION: Under this delegation, which supersedes all prior delegations to the Assistant Secretary for Public and Indian Housing, the Secretary delegates to the Assistant Secretary for Public and Indian Housing all powers and authorities with respect to HUD's Public and Indian Housing programs, except for those powers and authorities, which are specifically excepted from this delegation.

Section A. Authority Delegated

The Secretary delegates to the Assistant Secretary for Public and Indian Housing the power and authority of the Secretary to:

1. Administer programs under the jurisdiction of the Secretary that are carried out pursuant to the authority transferred from the Public Housing Administration under section 5(a) of the Department of Housing and Urban Development Act (42 U.S.C. 3534);

2. Administer each program of the Department that is authorized pursuant to the United States Housing Act of 1937 (42 U.S.C. 1437 et seq.), including but not limited to the Public Housing program, Section 8 programs (except the following Section 8 Project-Based programs: New Construction, Substantial Rehabilitation, Loan Management Set-Aside and Property Disposition), the HOPE VI program and predecessor programs that are no longer funded but have ongoing commitments.

3. Administer such other programs for which assistance is provided for or on behalf of public housing agencies or public housing residents.

Section B. Authority Excepted

The authority delegated under Section A does not include the power to sue and be sued.

Section C. Authority To Redelegate

The authority delegated in Section A may be redelegated to employees of the Department through written delegations of authority, except for the authority to issue and waive regulations.

Section D. Authority Revoked

All authority previously delegated to the Assistant Secretary for Public and Indian Housing is revoked and is superseded by this delegation of authority.

Section E

This notice of delegation of authority shall be conclusive evidence of the authority of the Assistant Secretary for Public and Indian Housing or a delegate, to execute, in the name of the Secretary, any instrument or document relinquishing or transferring any right, title, or interest of the Department in real or personal property.

Authority: Section 7(d) of the Department of Housing and Urban Development (42 U.S.C. 3535(d)).

Dated: September 9, 2003.
Mel Martinez,
Secretary.

[FR Doc. 03-23514 Filed 9-15-03; 8:45 am]

BILLING CODE 4210-32-P